DEPARTMENT OF COMMERCE

International Trade Administration

[A-351-819, A-427-811, and A-533-808]

Continuation of Antidumping Duty Orders: Stainless Steel Wire Rod From Brazil, France, and India

AGENCY: Import Administration, International Trade Administration, Department of Commerce

ACTION: Notice of Continuation of Antidumping Duty Orders: Stainless Steel Wire Rod from Brazil, France, and India.

SUMMARY: On February 3, 2000, the Department of Commerce (“the Department”), pursuant to sections 751(c) and 752 of the Tariff Act of 1930, as amended (“the Act”), determined that revocation of the antidumping duty orders on stainless steel wire rod from Brazil, France, and India, is likely to lead to continuation or recurrence of dumping (65 FR 5319; 5317; 5315).

On July 21, 2000, the International Trade Commission (“the Commission”), pursuant to section 751(c) of the Act, determined that revocation of the antidumping duty orders on stainless steel wire rod from Brazil, France, and India would be likely to lead to continuation or recurrence of material injury to an industry in the United States within a reasonably foreseeable time (65 FR 45409). Therefore, pursuant to 19 CFR 351.218(f)(4), the Department is publishing notice of the continuation of the antidumping duty orders on stainless steel wire rod from Brazil, France, and India.

EFFECTIVE DATE: August 2, 2000.

FOR FURTHER INFORMATION CONTACT: Martha V. Douthit or James P. Maeder, Office of Policy for Import Administration, International Trade Administration, U.S. Department of Commerce, 14th Street and Constitution Ave., NW., Washington, DC 20230; telephone: (202) 482-5050 or (202) 482-3330, respectively.

SUPPLEMENTARY INFORMATION:

Background

On July 1, 1999, the Department initiated, and the Commission instituted, sunset reviews of the antidumping duty orders on stainless steel wire rod from Brazil, France, and India pursuant to section 751(c) of the Act (64 FR 35588 and 64 FR 35697). As a result of its reviews, the Department found that revocation of the antidumping duty orders would likely lead to continuation or recurrence of dumping and notified the Commission of the magnitude of the margins likely to prevail were the orders to be revoked. See Final Results of Expedited Sunset Reviews: Certain Stainless Steel Wire Rod from Brazil, France, and India, 65 FR 5319; 5317; 5315 (February 3, 2000).

On July 21, 2000, the Commission determined, pursuant to section 751(c) of the Act, that revocation of the antidumping duty orders on stainless steel wire rod from Brazil, France, and India would be likely to lead to continuation or recurrence of material injury to an industry in the United States within a reasonably foreseeable time. See Certain Stainless Steel Wire Rod from Brazil, France, and India, 65 FR 45409 (July 21, 2000) and USITC Pub. 3321, Investigations Nos. 731-TA-636-638 (Review) (July 2000).

Scope

Imports covered by these orders are shipments of stainless steel wire rods (“SSWR”) from Brazil, France, and India. SSWR are products which are hot-rolled or hot-rolled annealed and/or pickled rounds, squares, octagons, hexagons or other shapes, in coils. SSWR are made of alloy steels containing, by weight, 1.2 percent or less of carbon and 10.5 percent or more of chromium, with or without other elements. These products are only manufactured by hot-rolling and are normally sold in coiled form, and are of solid cross-section. The majority of SSWR sold in the United States are round in cross-section shape, annealed and pickled. The most common size is 5.5 millimeters in diameter. The SSWR subject to these reviews are currently classifiable under subheadings 7221.00.0005, 7221.00.0015, 7221.00.0020, 7221.00.0030, 7221.00.0040, 7221.00.0045, 7221.00.0060, 7221.00.0075, and 7221.00.0080 of the Harmonized Tariff Schedule of the United States (“HTSUS”). The HTSUS item numbers are provided for convenience and customs purposes only. The written product description of the scope of this order remains dispositive.

Determination

As a result of the determinations by the Department and the Commission that revocation of these antidumping duty orders would be likely to lead to continuation or recurrence of dumping and material injury to an industry in the United States, pursuant to section 751(d)(2) of the Act, the Department hereby orders the continuation of the antidumping duty orders on stainless steel wire rod from Brazil, France, and India. The Department will instruct the U.S. Customs Service to continue to collect antidumping duty deposits at the rate in effect at the time of entry for all imports of subject merchandise. The effective date of continuation of these orders will be the date of publication in the Federal Register of this Notice of Continuation. Pursuant to sections 751(c)(2) and 751(c)(6) of the Act, the Department intends to initiate the next five-year review of these orders not later than July 2005.

Dated: July 27, 2000.
Troy H. Cribb,
Acting Assistant Secretary for Import Administration.

[FR Doc. 00-19547 Filed 8-1-00; 8:45 am]

BILLING CODE 3510-DS-P